DEPARTMENT OF AGRICULTURE

Forest Service

Eastern Idaho Resource Advisory Committee

AGENCY: Forest Service, USDA.

ACTION: Notice of meeting.

SUMMARY: The Eastern Idaho Resource Advisory Committee (RAC) will meet in Idaho Falls, ID. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to recommned projects for approval by the Designated Federal Official.

DATES: The meeting will be held May 5, 2014 at 9 a.m.

All RAC meetings are subject to cancellation. For status of meeting prior to attendance, please contact the person listed under FOR FURTHER INFORMATION CONTACT.

ADDRESSES: The meeting will be held at the office of the Caribou-Targhee National Forest, 1405 Hollipark Drive, Idaho Falls, ID 83401. If there ae question please call the RAC Coordinator, Lynn Ballard at 208-557-5765.

Written comments may be submitted as described under Supplementary Information. All comments, including names and addresses when provided, are placed in the record and are available for public inspection and copying. The public may inspect comments received at the Caribou-Targhee NF office, 1405 Hollipark Drive, Idaho Falls, ID 83420. Please call ahead to facilitate entry into the building.

FOR FURTHER INFORMATION CONTACT: Lynn Ballard, RAC Coordinator by phone at 208-557-5765 or via email at lballard@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accomodation for access to the facility or procedings by contacting the person listed FOR FURTHER INFORMATION CONTACT.

SUPPLEMENTARY INFORMATION: Additional RAC information, including the meeting agenda and the meeting summary/minutes can be found at the following Web site: [http://www.fs.usda.gov/main/ctnf/workingtogether/advisorycommittees]. The agenda will include time for people to make oral statements of three minutes or less. Individuals wishing to make an oral statement should request in writing by April 28, 20145 to be scheduled on the agenda. Anyone who would like to bring related matters to the attention of the committee may file written statements with the committee staff before or after the meeting. Written comments and requests for time for oral comments must be sent to Lynn Ballard, RAC Coordinator, 1405 Hollipark Drive, Idaho Falls, ID 83420 or by email to lballard@fs.fed.us, or via facsimile to 208-557-5827.

Dated: April 14, 2014.
Brent L. Larson,
Forest Supervisor.

[FR Doc. 2014-08842 Filed 4-17-14; 8:45 am]

BILLING CODE 3410-11-P